DEPARTMENT OF HEALTH AND HUMAN SERVICES

Food and Drug Administration

[Docket No. 2004N-0564]

Agency Information Collection Activities; Submission for Office of Management and Budget Review; Comment Request; Temporary Marketing Permit Applications; Correction

AGENCY: Food and Drug Administration, HHS.

ACTION: Notice; correction.

SUMMARY: The Food and Drug Administration is correcting a notice that appeared in the Federal Register of April 8, 2005 (70 FR 18029). The document announced a submission for the Office of Management and Budget review and request for comments on temporary marketing permit applications. The document was published with an incorrect docket number. This document corrects that error.

FOR FURTHER INFORMATION CONTACT: Joyce Strong, Office of Policy and Planning (HF-27), Food and Drug Administration, 5600 Fishers Lane, Rockville, MD 20857, 301-827-7010.

SUPPLEMENTARY INFORMATION: In FR Doc. 05-7021, appearing on page 18029 in the Federal Register of Friday, April 8, 2005, the following correction is made:

1. On page 18029, in the first column, in the heading of the document, “[Docket No. 2005N-0564]” is corrected to read “[Docket No. 2004N-0564]”.

Dated: May 11, 2005.
Jeffrey Shuren,
Assistant Commissioner for Policy.

[FR Doc. 05-9808 Filed 5-17-05; 8:45 am]

BILLING CODE 4160-01-S